DEPARTMENT OF TRANSPORTATION

Federal Aviation Administration

Notice of Intent To Rule on Change in Use of Aeronautical Property at Elizabeth City Regional Airport, Elizabeth, NC

AGENCY: Federal Aviation Administration (FAA), DOT.

ACTION: Request for public comment.

SUMMARY: The Federal Aviation Administration is requesting public comment on a request by the Elizabeth City-Pasquotank County Airport Authority to change a portion of airport property from aeronautical to non-aeronautical use at the Elizabeth City Airport, Elizabeth City, North Carolina. The request consists of approximately 0.396 acres. This action is taken under the provisions of Section 125 of the Wendell H. Ford Aviation Investment Reform Act for the 21st Century (AIR 21).

DATES: Comments must be received on or before September 22, 2014.

ADDRESSES: Documents are available for review at the North Carolina Department of Transportation, Division of Aviation, 1050 Meridian Drive, RDU Airport, NC 27623; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Philip Lanier, Airport Project Manager, NCDOT, 1560 Mail Service Center, Raleigh, NC 27699-1560.

FOR FURTHER INFORMATION CONTACT: Mr. Tim Hester, Community Planner, Federal Aviation Administration, Memphis Airports District Office, 2600, Thousand Oaks Boulevard, Suite 2250, Memphis, TN 38118-2482. The application may be reviewed in person at this same location, by appointment.

SUPPLEMENTARY INFORMATION: The FAA proposes to rule and invites public comment on the request to release property for non-aeronautical purposes at Elizabeth City Regional Airport, Elizabeth City, NC 27909. Under the provisions of AIR 21 (49 U.S.C. 47107(h)(2).

On August 14, 2014, the FAA determined that the request to release property for non-aeronautical purposes at Elizabeth City Regional Airport meets the procedural requirements of the Federal Aviation Administration. The FAA may approve the request, in whole or in part, no later than September 22, 2014.

The following is a brief overview of the request:

The Elizabeth City-Pasquotank County Airport Authority is proposing to release approximately 0.396 acres at Elizabeth City Regional Airport. The change to non-aeronautical use is needed so the Airport Authority can grant additional right of way to the North Carolina Department of Transportation for the proposed widening of North Carolina 344 and the addition of a left turn lane at Stare Road 1131 (Consolidated Rd.). The turn lane will improve safety conditions at this intersection and improve traffic flow to the airport and surrounding community. The Airport Authority Board has approved of this action and has agreed on a fair market value compensation of $17,125.

Any person may inspect, by appointment, the request in person at the FAA office listed in FOR FURTHER INFORMATION CONTACT.

Issued in Memphis, TN, on August 14, 2014.
Phillip Braden,
Manager, Memphis Airports District Office.

[FR Doc. 2014-19885 Filed 8-20-14; 8:45 am]

BILLING CODE 4910-13-P